DEPARTMENT OF THE TREASURY

Internal Revenue Service

26 CFR Part 1

[REG-208254-90 and REG-136481-04]

RIN 1545-AO72 and RIN 1545-BD62

Source of Compensation for Labor or Personal Services; Correction

AGENCY: Internal Revenue Service (IRS), Treasury.

ACTION: Correction to withdrawal of notice of proposed rulemaking and notice of proposed rulemaking.

SUMMARY: This document corrects a withdrawal of notice of proposed rulemaking and notice of proposed rulemaking (REG-208254-90 and REG-136481-04) that was published in the Federal Register on Friday, August 6, 2004 (69 FR 47816), that contains new proposed rules that describe the proper basis for determining the source of compensation from labor or personal services performed partly within and partly without the United States.

FOR FURTHER INFORMATION CONTACT: David Bergkuist at (202) 622-3850 (not a toll-free number).

SUPPLEMENTARY INFORMATION:

Background

The withdrawal of notice of proposed rulemaking and notice of proposed rulemaking (REG-208254-90 and REG-136481-04) that is the subject of this correction is under section 861 of the Internal Revenue Code.

Need for Correction

As published, REG-208254-90 and REG-136481-04, contains errors that may prove to be misleading and are in need of clarification.

Correction of Publication

Accordingly, the withdrawal of notice of proposed rulemaking and notice of proposed rulemaking (REG-208254-90 and REG-136481-04) which is the subject of FR. Doc. 04-17813 is corrected as follows:

1. On page 47816, column 2, in the preamble, the paragraph heading ADDRESSES, is corrected in its entirety, to read as follows “Send submissions to: CC:PA:LPD:PR (REG-136481-04), room 5203, Internal Revenue Service, POB 7604, Ben Franklin Station, Washington, DC 20044. Submissions may be hand delivered Monday through Friday between the hours of 8 a.m. and 4 p.m. to: CC:PA:LPD:PR (REG-136481-04), Courier's Desk, Internal Revenue Service, 1111 Constitution Avenue, NW., Washington DC or sent electronically, via the IRS Internet site at: http://www.irs.gov/regs or Federal eRulemaking Portal at http://www.regulations.gov (IRS and REG-136481-04).”

§ 1.861-4 [Corrected]

2. On page 47819, column 3, § 1.861-4, paragraph (b)(2)(ii)(C)(2), line 1 through 3, the language “Ruling or other administrative pronouncement with respect to groups of taxpayers. The Commissioner may, by” is corrected to read “Ruling or other administrative pronouncement with respect to groups of taxpayers. The Commissioner may, by”.

LaNita Van Dyke,
Acting Chief, Publications and Regulations Branch, Legal Processing Division, Associate Chief Counsel (Procedures and Administration).

[FR Doc. 04-18835 Filed 8-16-04; 8:45 am]

BILLING CODE 4830-01-P